DEPARTMENT OF COMMERCE

International Trade Administration

[A-201-844]

Steel Concrete Reinforcing Bar From Mexico: Preliminary Results of Antidumping Duty Administrative Review; 2021-2022

AGENCY: Enforcement and Compliance, International Trade Administration, Department of Commerce.

SUMMARY: The U.S. Department of Commerce (Commerce) preliminarily finds that certain producers and/or subject to this administrative review sold steel concrete reinforcing bar (rebar) from Mexico at less than normal value during the period of review (POR) November 1, 2021, through October 31, 2022. We invite interested parties to comment on these preliminary results.

DATES: Applicable November 8, 2023.

FOR FURTHER INFORMATION CONTACT: Kyle Clahane, AD/CVD Operations, Office III, Enforcement and Compliance, International Trade Administration, U.S. Department of Commerce, 1401 Constitution Avenue NW, Washington, DC 20230; telephone: (202) 482-5449.

SUPPLEMENTARY INFORMATION:

Background

On November 6, 2014, Commerce published in the Federal Register the antidumping duty order on rebar from Mexico.¹ On November 1, 2022, Commerce published in the Federal Register a notice of opportunity to request administrative reviews of the Order.² On January 3, 2023, based on timely requests for review, in accordance with section 751(a)(1) of the Tariff Act of 1930, as amended (the Act) and 19 CFR 351.221(c)(1)(i), Commerce initiated an administrative review of the Order covering 20 companies.³ On January 3, 2023, we selected Deacero Group ⁴ and Grupo Acerero S.A. de C.V. (Acerero) for individual examination as the mandatory respondents in this administrative review.⁵ Pursuant to section 751(a)(3)(A) of the Act, Commerce extended the deadline for the preliminary results until November 3, 2023.⁶

¹ See Steel Concrete Reinforcing Bar from Mexico: Antidumping Duty Order, 79 FR 65925 (November 6, 2014) (Order).

² See Antidumping or Countervailing Duty Order, Finding, or Suspended Investigation; Opportunity to Request Administrative Review and Join Annual Inquiry Service List, 87 FR 65750 (November 1, 2022).

³ See Initiation of Antidumping Duty and Countervailing Duty Administrative Reviews, 88 FR 50 (January 3, 2023).

⁴ Deacero Group consists of Deacero S.A.P.I. de C.V. (Deacero); and I.N.G.E.T.E.K.N.O.S. Estructurales, S.A. de C.V.. See Steel Concrete Reinforcing Bar from Mexico: Final Results of Antidumping Duty Administrative Review; 2020-2021, 88 FR 37849 (June 9, 2023), and accompanying Issues and Decision Memorandum (IDM) at Comment 4.

⁵ See Memoranda, “Respondent Selection,” dated February 17, 2023; and “Additional Respondent Selection,” dated February 22, 2023.

⁶ See Memorandum, “Second Extension of Deadline for Preliminary Results of Antidumping Duty Administrative Review,” dated October 4, 2023.

For a complete description of the events that followed the initiation of the review, see the Preliminary Decision Memorandum.⁷ A list of topics included in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results of the Administrative Review of the Antidumping Duty Order on Steel Concrete Reinforcing Bar from Mexico; 2021-2022,” dated concurrently with, and hereby adopted by, this notice (Preliminary Decision Memorandum).

Scope of the Order

The merchandise subject to the Order is steel concrete reinforcing bar from Mexico. The rebar subject to the Order is currently classified under the Harmonized Tariff Schedule of the United States (HTSUS) subheadings 7213.10.0000, 7214.20.0000, 7228.30.8010, 7215.90.1000, 7215.90.5000, 7221.00.0017, 7221.00.0018, 7221.00.0030, 7221.00.0045, 7222.11.0001, 7222.11.0057, 7222.11.0059, 7222.30.0001, 7227.20.0080, 7227.90.6085, 7228.20.1000, and 7228.60.6000. While HTSUS subheadings are provided for convenience and Customs purposes, the written description of the scope of the Order is dispositive. For a complete description of the scope of the Order, see the Preliminary Decision Memorandum.

Methodology

Commerce is conducting this review in accordance with section 751(a) of the Act. Constructed export price was calculated in accordance with section 772 of the Act. Normal value was calculated in accordance with section 773 of the Act. For a full description of the methodology underlying our preliminary results, see the Preliminary Decision Memorandum.

Rate for Non-Selected Companies

For the rate for companies not selected for individual examination in an administrative review, generally, Commerce looks to section 735(c)(5) of the Act, which provides instructions for calculating the all-others rate in a less-than-fair-value (LTFV) investigation. Under section 735(c)(5)(A) of the Act, the all-others rate is normally “an amount equal to the weighted average of the estimated weighted-average dumping margins established for exporters and producers individually investigated, excluding any zero or de minimis margins, and any margins determined entirely {on the basis of facts available}.” In this administrative review, we calculated weighted-average dumping margins for Deacero Group and Acerero that are not zero, de minimis, or based entirely on total facts available. For the respondents that were not selected for individual examination in this administrative review, we have assigned to them the weighted-average dumping margins calculated for Deacero Group and Acerero, consistent with the guidance in section 735(c)(5)(B) of the Act.⁸

⁸ See Preliminary Decision Memorandum at the section, “Companies Not Selected For Individual Examination”; see also Memorandum, “Calculation of the Rate for Respondents Not Selected for Individual Examination,” dated concurrently with this notice; and Ball Bearings and Parts Thereof from France, Germany, Italy, Japan, and the United Kingdom: Final Results of Antidumping Duty Administrative Reviews, Final Results of Changed-Circumstances Review, and Revocation of an Order in Part, 75 FR 53661, 53663 (September 1, 2010).

Preliminary Results of Review

We preliminarily determine the following estimated weighted-average dumping margins exist for the period November 1, 2021, through October 31, 2022:

Exporter/producer | Weighted- average dumping margin (percent)
Deacero S.A.P.I. de C.V./I.N.G.E.T.E.K.N.O.S. Estructurales, S.A. de C.V | 2.27
Grupo Acerero S.A. de C.V | 5.49
Grupo Simec S.A.B. de C.V./Aceros Especiales Simec Tlaxcala, S.A. de C.V./Compania Siderurgica del Pacifico S.A. de C.V./Fundiciones de Acero Estructurales, S.A. de C.V./Grupo Chant S.A.P.I. de C.V./Operadora de Perfiles Sigosa, S.A. de C.V./Orge S.A. de C.V./Perfiles Comerciales Sigosa, S.A. de C.V./RRLC S.A.P.I. de C.V./Siderúrgicos Noroeste, S.A. de C.V./Siderurgica del Occidente y Pacifico S.A. de C.V./Simec International, S.A. de C.V./Simec International 6 S.A. de C.V./Simec International 7 S.A. de C.V./Simec International 9 S.A. de C.V.) | 2.88
Gerdau Corsa, S.A.P.I. de C.V | 2.88
Sidertul S.A. de C.V | 2.88

Disclosure and Public Comment

We intend to disclose the calculations performed for these preliminary results to interested parties within five days after the date of publication of this notice in accordance with 19 CFR 351.224(b).

Interested parties will be notified of the timeline for the submission of such case briefs and written comments at a later date. Rebuttal briefs, limited to issues raised in the case briefs, may be filed no later than five days after the date for filing case briefs.⁹ Parties who submit case or rebuttal briefs in this proceeding are encouraged to submit with each argument: (1) a statement of the issue; (2) a brief summary of the argument; and (3) a table of authorities.¹⁰ Executive summaries should be limited to five pages total, including footnotes.

⁹ See 19 CFR 351.309(d).

¹⁰ See 19 CFR 351.309(c)(2) and (d)(2).

Pursuant to 19 CFR 351.310(c), interested parties who wish to request a hearing must submit a written request to the Assistant Secretary for Enforcement and Compliance, filed electronically via Commerce's electric records system, ACCESS, within 30 days of the date of publication of this notice in the Federal Register.¹¹ Requests should contain: (1) the party's name, address, and telephone number; (2) the number of participants; and (3) a list of issues parties intend to discuss. If a request for a hearing is made, Commerce intends to hold the hearing at a time and date to be determined. Parties should confirm by telephone the date, time, and location of the hearing two days before the scheduled date. Issues raised in the hearing will be limited to those raised in the respective case and rebuttal briefs.

¹¹ See 19 CFR 351.310(c).

All submissions to Commerce should be filed using ACCESS.¹² An electronically filed document must be received successfully in its entirety by ACCESS by 5:00 p.m. Eastern Time on the date that the document is due. Note that Commerce has amended certain of its requirements pertaining to the service of documents in 19 CFR 351.303(f).¹³

¹² See 19 CFR 351.303.

¹³ See Administrative Protective Order, Service, and Other Procedures in Antidumping and Countervailing Duty Proceedings; Final Rule, 88 FR 67069 (September 29, 2023).

Final Results of Review

Unless extended, we intend to issue the final results of this administrative review, which will include the results of our analysis of all issues raised in the case and rebuttal briefs, within 120 days of publication of these preliminary results in the Federal Register.¹⁴

¹⁴ See section 751(a)(3)(A) of the Act; see also 19 CFR 351.213(h).

Assessment Rates

Upon issuance of the final results of this administrative review, pursuant to section 751(a)(2)(A) of the Act, Commerce shall determine, and U.S. Customs and Border Protection (CBP) shall assess, antidumping duties on all appropriate entries of subject merchandise.

For individually examined respondents whose weighted-average dumping margin is not zero or de minimis (i.e., less than 0.50 percent), we will calculate importer-specific ad valorem antidumping duty assessment rates based on the ratio of the total amount of dumping calculated for the importer's examined sales to the total entered value of those same sales in accordance with 19 CFR 351.212(b)(1). If the respondent has not reported entered values, we will calculate a per-unit assessment rate for each importer by dividing the total amount of dumping calculated for the examined sales made to that importer by the total quantity associated with those sales. To determine whether an importer-specific, per-unit assessment rate is de minimis, in accordance with 19 CFR 351.106(c)(2), we also will calculate an importer-specific ad valorem ratio based on estimated entered values. Where either a respondent's weighted average dumping margin is zero or de minimis, or an importer-specific ad valorem assessment rate is zero or de minimis, we intend to instruct CBP to liquidate appropriate entries without regard to antidumping duties.¹⁵

¹⁵ See 19 CFR 351.106(c)(2); see also Antidumping Proceeding: Calculation of the Weighted-Average Dumping Margin and Assessment Rate in Certain Antidumping Proceedings; Final Modification, 77 FR 8101, 8103 (February 14, 2012).

For entries of subject merchandise during the POR produced by each individually examined respondent for which the producer did not know that the merchandise was destined for the United States, we will instruct CBP to liquidate such entries at the all-others rate (20.58 percent) if there is no rate for the intermediate company(ies) involved in the transaction.¹⁶

¹⁶ See Order, 73 FR at 45405; see also Antidumping and Countervailing Duty Proceedings: Assessment of Antidumping Duties, 68 FR 23954 (May 6, 2003).

For those companies which were not individually examined, we will instruct CBP to assess antidumping duties at an ad valorem rate equal to the weighted-average dumping margin determined for the non-examined companies in the final results of this review.

The final results of this review shall be the basis for the assessment of antidumping duties on entries of merchandise covered by this review where applicable. Commerce intends to issue assessment instructions to CBP no earlier than 41 days after the date of publication of the final results of this review in the Federal Register, in accordance with 19 CFR 356.8(a).

Cash Deposit Requirements

The following cash deposit requirements will be effective for all shipments of the subject merchandise entered, or withdrawn from warehouse, for consumption on or after the publication date of the final results of this administrative review, as provided by section 751(a)(2)(C) of the Act: (1) the cash deposit rate for each specific company listed above will be that established in the final results of this administrative review, except if the rate is less than 0.50 percent, and therefore, de minimis within the meaning of 19 CFR 351.106(c)(1), in which case the cash deposit rate will be zero; (2) for previously reviewed or investigated companies not listed above, the cash deposit rate will continue to be the company-specific rate published for the most recently completed segment of this proceeding in which the company participated; (3) if the exporter is not a firm covered in this review, a prior review, or in the investigation but the producer is, the cash deposit rate will be the rate established for the most recently completed segment of this proceeding for the producer of the merchandise; and (4) the cash deposit rate for all other producers or exporters will continue to be the all-others rate of 20.58 percent, the rate established in the investigation of this proceeding.¹⁷ These cash deposit requirements, when imposed, shall remain in effect until further notice.

¹⁷ See Steel Concrete Reinforcing Bar from Mexico: Final Determination of Sales at Less Than Fair Value and Final Affirmative Determination of Critical Circumstances, 79 FR 54967 (September 15, 2014).

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, 19 CFR 351.213(h)(2), and 19 CFR 351.221(b)(4).

Dated: November 1, 2023.
Lisa W. Wang,
Assistant Secretary for Enforcement and Compliance.

Appendix

List of Topics Discussed in the Preliminary Decision Memorandum

I. Summary

II. Background

III. Scope of the Order

IV. Affiliation and Single Entity Treatment

V. Companies Not Selected for Individual Examination

VI. Discussion of the Methodology

VII. Recommendation

[FR Doc. 2023-24666 Filed 11-7-23; 8:45 am]

BILLING CODE 3510-DS-P